COMMODITY FUTURES TRADING COMMISSION

Federal Register Notice Requesting Nominations for the Subcommittee on Convergence in Agricultural Commodity Markets Under the Agricultural Advisory Committee

AGENCY: Commodity Futures Trading Commission.

ACTION: Notice requesting nominations for the Subcommittee on Convergence in Agricultural Commodity Markets under the Agricultural Advisory Committee.

SUMMARY: The Commodity Futures Trading Commission (CFTC or Commission) is calling for nominations to the Subcommittee on Convergence in Agricultural Commodity Markets (Subcommittee on Convergence or Subcommittee) under the auspices of the Agricultural Advisory Committee. The Subcommittee on Convergence was established to identify the causes of poor cash-futures convergence in select agricultural commodity markets and advise the Commission on actions to remedy the situation. Nominations are sought for highly qualified representatives from government agencies, industry, exchanges, and groups representing interests or organizations involved with or affected by the convergence issues. Individuals seeking to be nominated to the Subcommittee on Convergence should possess demonstrable expertise in a related field or represent a stakeholder of interest in the issue. Prospective nominees should be open to participating in an open public-private forum.

DATES: The final deadline for nominations is 14 days from the publication date of this notice.

ADDRESSES: Nominations should be sent to Andrei Kirilenko, Office of the Chief Economist, U.S. Commodity Futures Trading Commission, 1155 21st Street, NW., Washington, DC 20581.

FOR FURTHER INFORMATION CONTACT: Andrei Kirilenko, (202) 418-5587; fax: (202) 418-5660; e-mail: akirilenko@cftc.gov.

SUPPLEMENTARY INFORMATION: The Subcommittee on Convergence will conduct at least three sessions: On the causes, potential remedies, and suggested actions to remedy poor convergence. The sessions will be held during the first half of 2009 either in person or via telephone and will be open to the public. The Subcommittee will present a report with its findings and recommendations to the members of the Agricultural Advisory Committee and the Commission, at which time the Commission and Chair of the Agricultural Advisory Committee will determine what further actions warrant consideration. Subcommittee participants will not be compensated or reimbursed for travel and per diem expenses.

Each nomination submission should include the proposed member's name and organizational affiliation; a brief description of the nominee's qualifications and interest in serving on the Subcommittee on Convergence; the organization, group, or government agency the nominee would represent on the subcommittee; and the curriculum vitae or resume of the nominee. Self-nominations are acceptable. The following contact information should accompany each submission: The nominee's name, address, phone number, fax number, and e-mail address if available.

There are no capital costs and no operating or maintenance costs associated with this notice.

Dated: March 3, 2009.
David Stawick,
Secretary of the Commission.

[FR Doc. E9-4952 Filed 3-6-09; 8:45 am]

BILLING CODE 6351-01-P